DEPARTMENT OF DEFENSE

Department of the Navy

Meetings of the Naval Research Advisory Committee

AGENCY: Department of the Navy, DOD.

ACTION: Notice of Open Meeting.

SUMMARY: The Naval Research Advisory Committee (NRAC) will meet on February 16, 2006. The meeting will be an Executive Session and will discuss studies to be undertaken by NRAC.

DATES: The meeting will be held on Thursday, February 16, 2006, from 8 a.m. to 12 p.m. All sessions of the meeting will be open to the public.

ADDRESSES: The meetings will be held at the Hyatt Regency Suites Palm Springs, 28 North Palm Canyon Drive, Palm Springs, CA 92262.

FOR FURTHER INFORMATION CONTACT: Dr. Sujata Millick, Program Director, Naval Research Advisory Committee, 875 North Randolph St, Arlington, VA 22203-1995, 703-696-6769.

SUPPLEMENTARY INFORMATION: This notice is provided in accordance with the provisions of the Federal Advisory Committee Act (5 U.S.C. App. 2). All sessions of the meeting will be devoted to executive sessions to include discussions of upcoming studies on Distributed Operations and Software Intensive Systems.

Dated: February 2, 2006.
I.C. Lemoyne, Jr.,
Lieutenant Commander, Judge Advocate General's Corps, U.S. Navy, Alternate Federal Register Liaison Officer.

[FR Doc. E6-1612 Filed 2-6-06; 8:45 am]

BILLING CODE 3810-FF-P